EXPORT-IMPORT BANK

Sunshine Act Meeting

ACTION: Notice of a Partially Open Meeting of the Board of Directors of the Export-Import Bank of the United States.

TIME AND PLACE: Thursday, September 19, 2013 at 1:00 p.m. The meeting will be held at Ex-Im Bank in Room 321, 811 Vermont Avenue NW., Washington, DC 20571.

OPEN AGENDA ITEMS: Item No. 1: PEFCO Secured Notes Resolutions for FY 2014.

PUBLIC PARTICIPATION: The meeting will be open to public observation for Item No. 1 only.

FURTHER INFORMATION: Members of the public who wish to attend the meeting should call Joyce Stone, Office of the Secretariat, 811 Vermont Avenue NW., Washington, DC 20571 (202) 565-3336 by close of business Wednesday, September 18, 2013.

Cristopolis Dieguez,
Program Specialist, Office of the General Counsel.

[FR Doc. 2013-22200 Filed 9-9-13; 4:15 pm]

BILLING CODE 6690-01-P